DEPARTMENT OF COMMERCE

National Oceanic and Atmospheric Administration

50 CFR Part 622

[Docket No. 230831-0208]

RIN 0648-BM37

Fisheries of the Caribbean, Gulf of Mexico, and South Atlantic; Coastal Migratory Pelagic Resources in the Gulf of Mexico and Atlantic Region; Framework Amendment 12

AGENCY: National Marine Fisheries Service (NMFS), National Oceanic and Atmospheric Administration (NOAA), Commerce.

ACTION: Final rule.

SUMMARY: NMFS issues regulations to implement a management measure described in Framework Amendment 12 under the Fishery Management Plan (FMP) for the Coastal Migratory Pelagic (CMP) Resources of the Gulf of Mexico and Atlantic Region (CMP FMP), as prepared and submitted by the Gulf of Mexico Fishery Management Council (Gulf Council). This final rule and Framework Amendment 12 modify the Gulf of Mexico (Gulf) migratory group of king mackerel (Gulf king mackerel) gillnet component commercial fishing season. The purpose of this final rule and Framework Amendment 12 is to allow the Gulf king mackerel gillnet component of the CMP fishery to fish without interruption from the season start date until NMFS determines that the gillnet quota has been met.

DATES: This final rule is effective October 10, 2023.

ADDRESSES: Electronic copies of Framework Amendment 12, which includes a regulatory impact review, may be obtained from the Southeast Regional Office website at https://www.fisheries.noaa.gov/action/framework-12-modifications-commercial-gulf-king-mackerel-gillnet-fishing-season.

FOR FURTHER INFORMATION CONTACT: Kelli O'Donnell, telephone: 727-824-5305, or email: Kelli.ODonnell@noaa.gov.

SUPPLEMENTARY INFORMATION: Gulf king mackerel is managed under the CMP FMP prepared by the Gulf and South Atlantic Fishery Management Councils and implemented through regulations at 50 CFR part 622 under the authority of the Magnuson-Stevens Fishery Conservation and Management Act (Magnuson-Stevens Act).

On July 17, 2023, NMFS published a proposed rule for Framework Amendment 12 and requested public comment (88 FR 45384, July 17, 2023). The proposed rule and Framework Amendment 12 outline the rationale for the actions contained in this final rule. A summary of the management measures described in Framework 12 and implemented by this final rule is provided below.

Background

Under the CMP FMP, the Gulf Council has the authority to develop framework amendments specific to fishing for the Gulf migratory group of king mackerel, which is found in Federal waters from Texas to the Florida Monroe/Miami-Dade County boundary. Fishing by the Gulf king mackerel gillnet component is allowed only in the Gulf king mackerel southern zone as described in 50 CFR 622.369(a)(1)(iii).

The current Gulf king mackerel gillnet component fishing season starts annually in January on the Tuesday after the Martin Luther King Jr. Federal holiday. The first weekend after the fishing season starts is open to gillnet fishing, but all subsequent weekends and holidays are closed to gillnet fishing while the season remains open. The current fishing season structure was established in a 1999 Framework Amendment to the CMP FMP (64 FR 45457, August 20, 1999). This fishing season structure formalized a private agreement between the small number of gillnet participants, which was to wait until January to fish to reduce the chance of a quota overage for the gillnet component. After the season and first weekend opening, subsequent weekends and holidays were closed to fishing because the gillnet component could rapidly harvest the fish and NMFS did not have the ability to monitor landings and process an inseason closure during weekends and holidays. However, for the last 10 years, gillnet fishers have cooperated with NMFS and voluntarily stopped fishing when landings are close to reaching the gillnet component annual catch limit (ACL; component quota). The gillnet fishers then wait for NMFS to determine if there is remaining quota available to harvest or if the season will be closing. Due to the low number of participants in the Gulf king mackerel gillnet component, and their consistent cooperation with NMFS, NMFS expects this practice to continue to be successful. This cooperation also helps ensure that landings do not exceed the commercial gillnet component ACL, which would result in a reduction of the component ACL in the following fishing year (50 CFR 622.388(a)(1)(iii)).

In 2022, the Council received a request from Gulf king mackerel commercial gillnet component fishermen to remove the weekend and holiday seasonal closures during the fleet's open season. The request stated that the removal of the weekend and holiday closures would allow the gillnet component to be more efficient by allowing participants to harvest the gillnet component quota as quickly as possible and so that they may then return to harvesting other species. The Council agreed that the weekend and holiday closures are no longer necessary.

Management Measure Contained in This Final Rule

For the Gulf king mackerel commercial gillnet component, this final rule revises the fishing season. The current fishing season for the Gulf king mackerel gillnet component starts the Tuesday after the Martin Luther King Jr. Federal holiday. The first weekend after the fishing season starts is open, but all subsequent weekends and holidays are closed to fishing while the season remains open. Through this final rule, the revised fishing season will still start the Tuesday after the Martin Luther King Jr. Federal holiday but with all subsequent weekends and holidays remaining open to fishing while the season remains open.

Comments and Responses

NMFS received four comments on the proposed rule for Framework Amendment 12, including comments from individuals and a commercial fishing organization. One comment supported the measure to modify the Gulf king mackerel commercial gillnet component fishing season. The rest of the comments suggested a change to management measures that are outside the scope of Framework Amendment 12 and the proposed rule; specifically prohibiting commercial harvest of king mackerel by gillnet. These comments are not addressed further. No changes have been made to this final rule as a result of public comment.

Classification

Pursuant to section 304(b)(3) of the Magnuson-Stevens Act, the NMFS Assistant Administrator has determined that this final rule is consistent with Framework Amendment 12, the CMP FMP, the Magnuson-Stevens Act, and other applicable laws.

This final rule has been determined to be not significant for purposes of Executive Order 12866.

The Magnuson-Stevens Act provides the statutory basis for this rule. No duplicative, overlapping, or conflicting Federal rules have been identified. A description of this final rule, why it is being implemented, and the purpose of this final rule are contained in the SUMMARY and SUPPLEMENTARY INFORMATION sections of this final rule.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

List of Subjects in 50 CFR Part 622

Commercial, Fisheries, Fishing, Gulf of Mexico, King mackerel.

Dated: August 31, 2023.
Samuel D. Rauch, III,
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. In § 622.378, revise paragraph (a) to read as follows:

§ 622.378 Seasonal closures of the Gulf migratory group king mackerel gillnet fishery.

(a) Seasonal closure of the gillnet component for Gulf migratory group king mackerel. The gillnet component for Gulf migratory group king mackerel in or from the southern zone is closed each fishing year from July 1 until 6 a.m. eastern standard time on the day after the Martin Luther King Jr. Federal holiday. During the closure, a person aboard a vessel using or possessing a gillnet with a stretched-mesh size of 4.75 inches (12.1 cm) or larger in the southern zone may not fish for or possess Gulf migratory group king mackerel. (See § 622.369(a)(1)(iii) for a description of the southern zone.)

* * * * *

[FR Doc. 2023-19253 Filed 9-6-23; 8:45 am]

BILLING CODE 3510-22-P